DEPARTMENT OF DEFENSE

Office of the Secretary

Privacy Act of 1974; System of Records

AGENCY: Office of the Secretary, DoD.

ACTION: Notice to add systems of records.

SUMMARY: The Office of the Secretary of Defense proposes to add an exempt system of records to its inventory of record systems subject to the Privacy Act of 1974 (5 U.S.C. 552a), as amended.

DATES: The changes will be effective on March 28, 2005 unless comments are received that would result in a contrary determination.

ADDRESSES: Send comments to OSD Privacy Act Coordinator, Records Management Section, Washington Headquarters Services, 1155 Defense Pentagon, Washington, DC 20301-1155.

FOR FURTHER INFORMATION CONTACT: Ms. Juanita Irvin at (703) 601-4722, extension 110.

SUPPLEMENTARY INFORMATION: The Office of the Secretary of Defense notices for systems of records subject to the Privacy Act of 1974 (5 U.S.C. 552a), as amended, have been published in the Federal Register and are available from the address above.

The proposed systems reports, as required by 5 U.S.C. 552a(r) of the Privacy Act of 1974, as amended, were submitted on January 6, 2005, to the House Committee on Government Reform, the Senate Committee on Homeland Security and Governmental Affairs, and the Office of Management and Budget (OMB) pursuant to paragraph 4c of Appendix I to OMB Circular No. A-130, ‘Federal Agency Responsibilities for Maintaining Records About Individuals,’ dated February 8, 1996 (February 20, 1996, 61 FR 6427).

Dated: February 18, 2005.
Jeannette Owings-Ballard,
OSD Federal Register Liaison Officer, Department of Defense.

DCIFA 01

System name:

CIFA Operational and Analytical Records.

System Location:

Counterintelligence Field Activity, 251 18th Street, Suite 1200, Arlington, VA 22202-3537.

Categories of Individuals Covered by the System:

Individuals involved in, or of interest to, DoD counterintelligence or law enforcement investigations, operations, or analytical projects.

Categories of Records in the System:

Records relating to the management of the DoD counterintelligence system and the coordination of DoD counterintelligence activities. Records relating to analytical or operational support for DoD counterintelligence, force protection, critical infrastructure protection, research and technology protection, threat analysis, and risk assessments. Records relating to the architecture and operation of DoD counterintelligence information systems. Reports of investigation, collection reports, statements of individuals, affidavits, correspondence, and other documentation pertaining to investigative or analytical efforts by DoD and other U.S. government agencies to identify or counter foreign intelligence and terrorist threats to the DoD and the United States. The system of records includes ad hoc or temporary databases established to support particular investigations, task forces, or analytical projects.

Authority for Maintenance of the System:

10 U.S.C. 113, Secretary of Defense; 5 U.S.C. 301, Departmental Regulations; Executive Order E.O. 12, 333, United States Intelligence Activities, () as amended by E.O. 13284 and E.O. 13355, Amendment of Executive Orders, and Other Actions, in Connection With the Establishment of the Department of Homeland Security and; DoD Directive 5105.67, Department of Defense Counterintelligence Field Activity (DoD CIFA) (; and E.O. 9397 (SSN)).

Purpose(s):

Compiled for use by the Counterintelligence Field Activity in the development and management of DoD counterintelligence programs and functions that support the protection of DoD, including counterintelligence support to protect DoD personnel, resources, critical information, research and development programs, technology, critical infrastructure, and U.S. interests against the activities of foreign powers and terrorist groups.

Routine Uses of Records Maintained in the System, including Categories of Users and the Purposes of Such Uses:

In addition to those disclosures generally permitted under 5 U.S.C. 552a(b) of the Privacy Act, these records or information contained therein may specifically be disclosed outside the DoD as a routine use pursuant to 5 U.S.C. 552a(b)(3) as follows:

To the Federal Bureau of Investigation, the Central Intelligence Agency, the Department of Homeland Security and other Executive Branch intelligence, counterintelligence, law enforcement, or security agencies to assist them in matters within their jurisdiction pertaining to hostile foreign intelligence or terrorist activities.

The DoD ‘Blanket Routine Uses' set forth at the beginning of OSD's compilation of systems of records notices apply to this system.

Policies and Practices for Storing, retrieving, Accessing, Retaining, and Disposing of Records in the System:

Storage:

Maintained in paper files and on electronic media.

Retrievability:

Retrieved by name, Social Security Number, and/or other personal identifiers.

Safeguards:

Records are maintained in a controlled facility. Physical entry is restricted by the use of locks, guards, and is accessible only to authorized personnel. Access to records is limited to person(s) responsible for servicing the record in performance of their official duties and who are properly screened and cleared for need to know. Access to computerized data is restricted by passwords, which are changed periodically.

Retention and Disposal:

Disposition pending (until the National Archives and Records Administration approves the retention and disposition of these records, treat as permanent).

System Manager(s) and Address:

Chief Information Officer, Counterintelligence Field Activity, 251 18th Street, Suite 1200, Arlington, VA 22202-3537.

Notification Procedure:

Individuals seeking to determine whether information about themselves is contained in this system of records should address written inquiries to the Privacy and Freedom of Information Coordinator, Counterintelligence Field Activity, 251 18th Street, Suite 1200, Arlington, VA 22202-3537.

Requests should contain the individual's name, date of birth, sufficient information to determine the type of records being sought, and the approximate date the records might have been created.

Record access procedures:

Individuals seeking access to information about themselves contained in this system of records should address written inquiries to the Privacy and Freedom of Information Coordinator, Counterintelligence Field Activity, 251 18th Street, Suite 1200, Arlington, VA 22202-3537.

Requests should contain the individual's name, date of birth, sufficient information to determine the type of records being sought, and the approximate date the records might have been created.

Contesting Record Procedures:

The OSD rules for accessing records, for contesting contents and appealing initial agency determinations are published in OSD Administrative Instruction 81; CFR part 311; or may be obtained from the system manager.

Record Source Categories:

Investigative, operational, and/or analytical files of DoD and other Federal agencies with counterintelligence, intelligence, law enforcement, security, protective, or related responsibilities. Information collected by CIFA from public or commercial sources in compliance with DoD authorities.

Exemptions Claimed for the System:

This system of records is a compilation of information from other Department of Defense and U.S. Government systems of records. To the extent that copies of exempt records from those ‘other’ systems of records are entered into DCIFA 01, OSD hereby claims the same exemptions for the records from those ‘other’ systems that are entered into this system, as claimed for the original primary system of which they are a part.

An exemption rule for this system has been promulgated in accordance with requirements of 5 U.S.C. 553(b)(1), (2), and (3), (c) and (e) and published in 32 CFR part 311. For additional information contact the system manager.

[FR Doc. 05-3665 Filed 2-24-05; 8:45 am]

BILLING CODE 5001-06-M